DEPARTMENT OF DEFENSE

Department of the Army; Corps of Engineers

Intent To Prepare a Draft Environmental Impact Statement for the Broward County Shore Protection Project, North County Line to Hillsboro Inlet (Segment I) General Reevaluation Report, Located in Broward County, FL

AGENCY: Department of the Army, U.S. Army Corps of Engineers, DoD.

ACTION: Notice of intent.

SUMMARY: The U.S. Army Corps of Engineers (Corps), Jacksonville District, intends to prepare a Draft Supplemental Environmental Impact Statement (DSEIS) for the Broward County Shore Protection Project(Segment I) General Re-Evaluation Report. The project is being sponsored locally by the city of Deerfield Beach.

ADDRESSES: U.S. Army Corps of Engineers, Planning Division, Environmental Branch, P.O. Box 4970, Jacksonville, FL 32232-0019.

FOR FURTHER INFORMATION CONTACT: Mr. Pat Griffin, by email Patrick.M.Griffin@usace.army.mil or by telephone at (904) 232-2286.

SUPPLEMENTARY INFORMATION:

a. The city of Deerfield Beach has secured the appropriation of Federal funds from Congress in the FY 03 and FY 04 Energy and Water Resources Development Act appropriations, respectively, for the USACE to initiate the preparation of the General Reevaluation Report (GRR). Preparation of a GRR for Segment I was authorized by the Conference Report for FY 2003 Appropriations (H.R. 108-10 pg. 808). The initial authorization for the overall project provided for construction by the local sponsor with reimbursement of the Federal share of eligible costs. This authorization was provided in House Document No. 91/89 dated February 18, 1965, as described in the Chief's Report dated June 15,1964.

b. Objectives. As the local sponsor for this study, it is the city of Deerfield Beach's expectation and desire that the USACE will in a cost effective manner conduct the GRR and the NEPA document for Segment I (north county line to Hillsboro Inlet), Broward County, FL and associated studies on behalf of the communities of Deerfield Beach and the Town of Hillsboro Beach and citizens of Broward County, FL. The city anticipates that the study will provide valuable economic, hurricane, storm and erosion data and related environmental and biological information regarding Deerfield's beaches and those in Segment I. This information will assist the city in its on-going efforts to provide a healthy and sustainable beach to residents and visitors. Additionally, the city expects the GRR and associated studies will provide in-depth analysis on the condition of the beaches within the study area and a determination as to whether or not the beaches within Segment I are eligible to receive Federal funding assistance for on-going and routine beach nourishment and to provide the recommended and appropriate levels and schedule necessary to conduct activities which will maintain a healthy beach profile.

c. Alternatives. Alternatives will be developed during this scoping period. Information on the proposed alternatives will be included in future documents and will be available for review during public meetings and document comment periods. Ideas on potential alternatives are welcome and will be considered.

d. Issues. The DEIS will consider the possible effects of placing compatible material on the beaches located within the boundaries of Segment I, impacts of dredging materials from an offshore borrow area, coral reefs and other hardbottom communities, as well as other project related impacts on protected species, water quality, fish and wildlife resources, cultural resources, essential fish habitat, socio-economic resources, coastal processes, aesthetics and recreation, cumulative impacts, and other impacts identified through scoping, public involvement, and agency coordination.

e. Scoping Process. The scoping process as outlined by the Council on Environmental Quality would be utilized to involve Federal, State, and local agencies, and other interested persons and organizations. A scoping letter would be sent to the appropriate parties requesting comments and concerns regarding issues to consider during the study. Public scoping meetings would be held. Exact dates, times, and locations would be published in local papers.

f. Coordination. The proposed action is being coordinated with the U.S. Fish and Wildlife Service (FWS) and the National Marine Fisheries Service under Section 7 of the Endangered Species Act, with the FWS under the Fish and Wildlife Coordination Act, and with the State Historic Preservation Officer.

g. Other Environmental Review and Consultation. The proposed action would involve evaluation for compliance with guidelines pursuant to section 404(b) of the Clean Water Act; application (to the State of Florida) for Water Quality Certification pursuant to section 401 of the Clean Water Act; certification of state lands, easements, and rights of way; Essential Fish Habitat with National Marine Fisheries Service; and determination of Coastal Zone Management Act consistency.

h. Agency Role. The non-Federal sponsor (city of Deerfield Beach) will provide extensive information and assistance on the resources to be impacted, mitigation measures if warranted, and alternatives.

i. DSEIS Preparation. It is estimated that the DEIS will be available to the public on or about May 2012.

Dated: March 24, 2010.
Eric P. Summa,
Chief, Environmental Branch.

[FR Doc. 2010-7599 Filed 4-2-10; 8:45 am]

BILLING CODE 3720-58-P